DEPARTMENT OF HEALTH AND HUMAN SERVICES

Centers for Disease Control and Prevention

Board of Scientific Counselors, National Center for Health Marketing

In accordance with section 10(a)(2) of the Federal Advisory Committee Act (Pub. L. 92-463), the Centers for Disease Control and Prevention (CDC) announces the following committee meetings:

Name: Board of Scientific Counselors, National Center for Health Marketing (BSC, NCHM).

Times and Dates: 10 a.m.-5 p.m., June 5, 2008. 8:30 a.m.-12 p.m., June 6, 2008.

Place: Auditorium A, Global Communications Center, Building 19, 1600 Clifton Road, N.E., Atlanta, Georgia, 30333.

Status: Open to the public, limited only by the space available.

Please Note: Due to current security measures, a valid government issued identification card with photo is required for admittance into the Roybal facility. Non-U.S. citizens wishing to attend should contact Dionne Mason; Telephone, (404) 498-2314. The deadline for notification of attendance is May 22, 2008.

Purpose: The board provides advice to the Secretary, Department of Health and Human Services; and the Director, Centers for Disease Control and Prevention, on strategies and goals for the programs and research within the national center; conducts peer review of scientific programs; and monitors the overall strategic direction and focus of the national center. The board also performs second-level peer review of applications for grants-in-aid for research and research training activities, cooperative agreements, and research contract proposals relating to the broad areas within the national center.

Matters to be Discussed: The agenda will include a general overview of the NCHM and discussions related to the Center's role in preparedness, response and recovery with regards to an outbreak of pandemic influenza.

Agenda items are subject to change as priorities dictate.

Contact for More Information: Dionne R. Mason, Committee Management Specialist, NCHM, CDC, 1600 Clifton Road, NE., Mail Stop E-21, Atlanta, Georgia 30333; Telephone, (404) 498-2314; Fax, (404) 498-2221.

The Director, Management Analysis and Services Office, has been delegated the authority to sign Federal Register notices pertaining to announcements of meetings and other committee management activities for both CDC and the Agency for Toxic Substances and Disease Registry.

Dated: May 9, 2008.
Elaine L. Baker,
Director, Management Analysis and Services Office, Centers for Disease Control and Prevention.

[FR Doc. E8-11448 Filed 5-21-08; 8:45 am]

BILLING CODE 4163-18-P